NUCLEAR REGULATORY COMMISSION

[Docket No. 50-305]

Nuclear Management Company, LLC; Kewaunee Nuclear Power Plant Environmental Assessment and Finding of No Significant Impact

The U.S. Nuclear Regulatory Commission (NRC) is considering issuance of an amendment to Facility Operating License No. DPR-43, issued to Nuclear Management Company, LLC (NMC or the licensee) for operation of the Kewaunee Nuclear Power Plant (KNPP), located in Kewaunee County, Wisconsin.

Environmental Assessment

Identification of the Proposed Action

The proposed action would revise Technical Specification (TS) Section 1.0, “Definitions,” to incorporate a line item improvement to provide additional clarification on channel calibration; TS Section 6.4, “Training,” to remove the title of director for the KNPP training program and relocate the title reference to the Operational Quality Assurance Program Description (OQAPD); TS Section 6.10, “Record Retention,” to revise the off-site review committee title; and correct typographical errors in the TS Table of Contents.

The proposed action is in accordance with the licensee's application for amendment dated November 10, 2000.

The Need for the Proposed Action

The proposed action would provide clarity to the TSs and remove an unnecessary NRC and licensee burden with no change in safety when titles are changed.

Environmental Impacts of the Proposed Action

The NRC has completed its evaluation of the proposed action and concludes that the changes to the TSs are administrative in nature.

The proposed action will not significantly increase the probability or consequences of accidents, no changes are being made in the types of any effluents that may be released off site, and there is no significant increase in occupational or public radiation exposure. Therefore, there are no significant radiological environmental impacts associated with the proposed action.

With regard to potential nonradiological impacts, the proposed action does not involve any historic sites. It does not affect nonradiological plant effluents and has no other environmental impact. Therefore, there are no significant nonradiological environmental impacts associated with the proposed action.

Accordingly, the NRC concludes that there are no significant environmental impacts associated with the proposed action.

Alternatives to the Proposed Action

As an alternative to the proposed action, the staff considered denial of the proposed action (i.e., the “no action” alternative). Denial of the application would result in no change in current environmental impacts. The environmental impacts of the proposed action and the alternative action are similar.

Alternative Use of Resources

This action does not involve the use of any resources not previously considered in the Final Environmental Statement for Kewaunee.

Agencies and Persons Consulted

In accordance with its stated policy, on January 29, 2001, the staff consulted with the Wisconsin State official, Ms. S. Jenkins, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's application dated November 10, 2000, which is available for public inspection at the Commission's Public Document Room, One White Flint Building, 11555 Rockville Pike, Rockville, MD. Publicly available records will be accessible electronically from the ADAMS Public Library component on the NRC Web site, http:\\www.nrc.gov (the Electronic Reading Room).

Dated at Rockville, Maryland, this 9th day of February 2001.
For the Nuclear Regulatory Commission.
John G. Lamb,
Project Manager, Section 1, Project Directorate III, Division of Licensing Project Management, Office of Nuclear Reactor Regulation.

[FR Doc. 01-3824 Filed 2-14-01; 8:45 am]

BILLING CODE 7590-01-P